NATIONAL SCIENCE FOUNDATION

Sunshine Act Meeting; National Science Board

The National Science Board's Committee on Programs and Plans (CPP), pursuant to NSF regulations (45 CFR part 614), the National Science Foundation Act, as amended (42 U.S.C. 1862n-5), and the Government in the Sunshine Act (5 U.S.C. 552b), hereby gives notice of the scheduling of a teleconference for the transaction of National Science Board business, as follows:

Date and Time: Wednesday, October 5, 2016 from 11 a.m. to 12:00 p.m. EDT.

Subject Matter: (1) Committee Chair's Opening Remarks; (2) Discussion of Facility Roles and Responsibilities; and (3) Future CPP Activities.

Status: Open.

This meeting will be held by teleconference at the National Science Foundation, 4201Wilson Blvd., Arlington, VA 22230. A public audio stream will be available for this meeting. Request the link by contacting nationalsciencebrd@nsf.gov at least 24 hours prior to the teleconference. Please refer to the National Science Board Web site for additional information and schedule updates (time, place, subject matter or status of meeting) which may be found at http://www.nsf.gov/nsb/notices/. The point of contact for this meeting is Elise Lipkowitz, 4201Wilson Blvd., Arlington, VA 22230. Telephone: (703) 292-7000.

Chris Blair,
Executive Assistant to the NSB Office.

[FR Doc. 2016-23927 Filed 9-29-16; 11:15 am]

BILLING CODE 7555-01-P